DEPARTMENT OF ENERGY

Federal Energy Regulatory Commission

[Docket No. CP18-14-000]

Blue Mountain Midstream LLC; Notice of Application

Take notice that on November 9, 2017, Blue Mountain Midstream LLC (Blue Mountain), 14701 Hertz Quail Springs Pkwy, Oklahoma City, Oklahoma 73134, filed in Docket No. CP18-14-000 an application under section 7(c) of the Natural Gas Act (NGA) and Part 157 of the Commission's regulations, seeking a certificate of limited jurisdiction for the Blue Mountain Delivery Line located in Grady County, Oklahoma, all as more fully set forth in the application which is on file with the Commission and open to public inspection. Blue Mountain also requests a blanket certificate under Subpart F of Part 157 of the Commission's regulations. Blue Mountain further requests waivers of certain Commission regulatory requirements as set forth in the application.

Questions regarding this application should be directed to William F. Demarest, Jr., Husch Blackwell LLP, 750 17th Street NW., Suite 900, Washington, DC 20006, or by telephone at (202) 378-2310, or by email at william.demarest@huschblackwell.com.

This filing is available for review at the Commission's Washington, DC offices, or may be viewed on the Commission's Web site at http://www.ferc.gov using the e-Library link. Enter the docket number, excluding the last three digits, in the docket number field to access the document. For assistance, please contact FERC Online Support at FERCOnlineSupport@ferc.gov, or call toll-free at (866) 208-3676, or for TTY, contact (202) 502-8659.

Blue Mountain seeks authority to construct, own and operate the Blue Mountain Delivery Line downstream from the Chisolm Trail Plant which will entail the construction of two natural gas pipelines totaling 9.57 miles and a metering and pigging facility. The two natural gas pipelines would be constructed in two stages. The first stage would be a 20-inch diameter steel pipeline approximately 4.35 miles in length from the Chisolm Trail Plant tailgate to a metering and pigging facility or central delivery point, at which the flow of the gas may be directed to one or the other of two interstate pipeline receipt points located at or downstream of the central delivery point.

Contemporaneously with Blue Mountain's construction of the first stage of the Blue Mountain Delivery Line, Southern Star Central Gas Pipeline, Inc. Southern Star will construct an approximately 5.5 mile pipeline from Southern Star's certificated interstate natural gas pipeline facilities in Grady County, Oklahoma, to the metering and pigging facility/CDP. Southern Star's construction activity will be performed pursuant to Southern Star's blanket certificate authority.

The second stage of the project will involve construction by Blue Mountain of a 12-inch diameter from the metering and pigging facility/CDP approximately 5.20 miles to an interconnect with the interstate natural gas pipeline facilities of Enable Gas Transmission, LLC, located in Grady County, Oklahoma.

Blue Mountain Midstream also requests general waiver of the Commission's rate schedule and tariff filing requirements, Part 154 of the Commission's regulations. Blue Mountain does not propose to charge any fee for transportation of gas, all of which will be owned by itself.

There are two ways to become involved in the Commission's review of this Project. First, any person wishing to obtain legal status by becoming a party to the proceeding for this project should file with the Federal Energy Regulatory Commission, 888 First Street NE., Washington, DC 20426, a motion to intervene in accordance with the requirements of the Commission's Rules of Practice and Procedure, 18 CFR 385.214, 385.211 (2016), by the comment date below. A person obtaining party status will be placed on the service list maintained by the Secretary of the Commission, and will receive copies of all documents filed by the applicant and by all other parties. A party must submit filings made with the Commission by mail, hand delivery, or Internet, in accordance with Rule 2001 of the Commission's Rules of Practice and Procedure, id. 385.2001. A copy must be served on every other party in the proceeding. Only parties to the proceeding can ask for court review of Commission orders in the proceeding.

However, a person does not have to intervene to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Protests and interventions may be filed electronically via the Internet in lieu of paper; see 18 CFR 385.2001(a)(1)(iii) and the instructions on the Commission's Web site under the e-filing link. The Commission strongly encourages electronic filings.

If the Commission decides to set the application for a formal hearing before an Administrative Law Judge, the Commission will issue another notice describing that process. At the end of the Commission's review process, a final Commission order approving or denying the requested authorization will be issued.

Comment Date: 5:00 p.m. Eastern Time, December 12, 2017.

Dated: November 21, 2017.
Kimberly D. Bose,
Secretary.

[FR Doc. 2017-25723 Filed 11-28-17; 8:45 am]

BILLING CODE 6717-01-P